DEPARTMENT OF THE INTERIOR

Bureau of Land Management

[NV-050-5853-ES; N-78101]

Notice of Realty Action: Lease/Conveyance for Recreation and Public Purposes, Las Vegas, NV

AGENCY: Bureau of Land Management, Interior.

ACTION: Notice of Realty Action.

SUMMARY: Bureau of Land Management (BLM) has determined that land located in Clark County, Nevada is suitable for classification for lease/conveyance to the City of Las Vegas.

DATES: Interested parties may submit comments regarding the proposed lease/conveyance for classification until 45 days after the date of publication of this notice in the Federal Register.

ADDRESS: Please mail your comments to the Las Vegas Field Manager, Bureau of Land Management, Las Vegas Field Office, 4701 N. Torrey Pines Drive, Las Vegas, Nevada 89130-2301.

FOR FURTHER INFORMATION CONTACT: Anna Wharton, Supervisory Realty Specialist, (702) 515-5095.

SUPPLEMENTARY INFORMATION: The following described public land in Las Vegas, Clark County, Nevada has been examined and found suitable for lease/conveyance for recreational or public purposes under the provisions of the Recreation and Public Purposes Act, as amended (43 U.S.C. 869 et seq.).

N-78101—The City of Las Vegas proposes to use the land for a public park.

Mount Diablo Meridian

T. 19S., R. 60E., Sec. 7

Government Lot 5 (E½E½).

Consist of 10 acres.

The land is not required for any federal purpose. Lease/conveyance is consistent with current Bureau planning for this area and would be in the public interest. The lease/ conveyance, when issued, will be subject to the provisions of the Recreation and Public Purposes Act and applicable regulations of the Secretary of the Interior, and will contain the following reservations to the United States:

1. A right-of-way thereon for ditches or canals constructed by the authority of the United States, Act of August 30, 1890 (43 U.S.C. 945).

2. All minerals shall be reserved to the United States, together with the right to prospect for, mine and remove such deposits from the same under applicable law and such regulations as the Secretary of the Interior may prescribe.

And will be subject to:

1. All valid and existing rights.

2. Those rights for public utility purposes which have been granted to the Las Vegas Valley Water District by permit No. N-62751 under Title V of the Federal Land Policy and Management Act of October 21, 1976 (FLPMA).

3. Those rights for public utility purposes which have been granted to the Las Vegas Valley Water District by permit No. N-76984 under Title V of the Federal Land Policy and Management Act of October 21, 1976 (FLPMA).

4. Those rights for roadway, sewer and drainage purposes which have been granted to the City of Las Vegas by permit No. N-76109, under Title V of the Federal Land Policy and Management Act of October 21, 1976 (FLPMA).

5. Those rights for public utility purposes which have been granted to Nevada Power Company by permit No. N-75702, under Title V of the Federal Land Policy and Management Act of October 21, 1976 (FLPMA).

6. Those rights for public utility purposes which have been granted to Southwest Gas Company by permit No. N-76691, under Section 28 of the Mineral Leasing Act of 1920, as amended (30 U.S.C. 185).

7. Those rights for public utility purposes which have been granted to Southwest Gas Company by permit No. N-76705, under Section 28 of the Mineral Leasing Act of 1920, as amended (30 U.S.C. 185).

8. Those rights for public utility purposes which have been granted to Central Telephone Company by permit No. N-76618, under Title V of the Federal Land Policy and Management Act of October 21, 1976 (FLPMA).

Detailed information concerning this action is available for review at the office of the Bureau of Land Management, Las Vegas Field Office at the address listed above.

On February 22, 2005, the above described land will be segregated from all other forms of appropriation under the public land laws, including the general mining laws, except for lease/conveyance under the Recreation and Public Purposes Act, leasing under the mineral leasing laws and disposals under the mineral material disposal laws.

Classification Comments: Interested parties may submit comments involving the suitability of the land for a public park. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a public park facility. Any adverse comments will be reviewed by the State Director who may sustain, vacate, or modify this realty action. In the absence of any adverse comments, these realty actions will become the final determination of the Department of the Interior. The classification of the land described in this Notice will become effective on date 60 days from the date of publication of this notice in the Federal Register. The lands will not be offered for lease/conveyance until after the classification becomes effective.

Dated: October 18, 2004.
Sharon DiPinto,
Assistant Field Manager, Division of Lands, Las Vegas, NV.

[FR Doc. 05-3296 Filed 2-18-05; 8:45 am]

BILLING CODE 4310-HC-P